GENERAL SERVICES ADMINISTRATION

[Notice-PBS-2024-01; Docket No. 2024-0002; Sequence No. 1]

Notice of Intent To Prepare an Environmental Impact Statement for the Modernization of the Land Port of Entry in Norton, Vermont

AGENCY: Public Buildings Service (PBS), General Services Administration (GSA).

ACTION: Notice of Intent (NOI); Announcement of meeting.

SUMMARY: Pursuant to the requirements of the National Environmental Policy Act of 1969 (NEPA) GSA intends to prepare an Environmental Impact Statement (EIS) to analyze the potential environmental impacts from the proposed modernization of the Land Port of Entry (LPOE) in Norton, Vermont. The proposed project would allow the U.S. Customs and Border Protection (CBP) to more efficiently carry out its agency mission at the international border crossing between Norton, Vermont and Stanhope, Quebec. The project study area is located in an area susceptible to flooding and therefore project alternatives will be reviewed in accordance with Executive Orders 11988, and 13690. GSA also intends to initiate consultation as required by Section 106 of the National Historic Preservation Act.

DATES: Public Scoping—Interested parties are encouraged to provide written comments regarding the scope of the EIS. Written comments must be submitted to GSA by March 8, 2024 (see ADDRESSES section for where to submit comments).

Meeting Date—A public scoping meeting will be held on January 30, 2024, from 5:30 p.m. to 7:30 p.m., EST, with a presentation to begin at 6 p.m. The meeting will be held at the Norton Town Office (see ADDRESSES section for location address). In the event of inclement weather, the meeting will be rescheduled, and a new notice will be posted.

Requests for Accommodations: Persons requiring accommodations shall notify Kelly Morrison at Kelly.morrison@gsa.gov by January 17, 2024.

ADDRESSES: Public Scoping Comments— The public is encouraged to provide written comments regarding the scope of the EIS at the meeting and throughout the comment period. Submit comments by any of the following methods:

In-person: Submit written comments at the public scoping meeting via comment forms distributed at the meeting. There will be a stenographer present to capture comments voiced at the meeting.

Email: Send an email to Norton.LPOE@gsa.gov and reference “Norton LPOE EIS” in the subject line.

Mail: U.S. General Services Administration, Attention: U.S General Services Administration, Attention: Adam Hunter, Norton Project Manager, Thomas P. O'Neill, Jr. Federal Building, 10 Causeway Street, 11th Floor, Boston, MA 02222-1077.

Meeting Location—A public scoping meeting will be held at the Norton Town Office, 12 VT-114 East, Norton, VT 05907.

FOR FURTHER INFORMATION CONTACT: Adam Hunter, Norton Project Manager, (347) 255-7483, adam.hunter@gsa.gov.

SUPPLEMENTARY INFORMATION:

Background

The project scope consists of the modernization of a LPOE in order to meet the U.S. Customs and Border Protection (CBP) current Program of Requirements to carry out their agency mission at the international border crossing between Norton, Vermont and Stanhope, Quebec. The existing LPOE was constructed in 1933, with a truck facility constructed in 1961. Two additional garages were built in 2003. The main building is listed on the National Register of Historic Places. The current facilities are significantly outdated and do not meet the CBP's current LPOE design standards.

The proposed modernization of the Norton, Vermont LPOE would help improve traffic flow, enhance security, and facilitate trade and travel in the region. The proposed new facility will strengthen supply chains, improve operational capabilities and facility infrastructure, spur economic growth, and bolster the country's security.

Alternatives Under Consideration

GSA intends to prepare an EIS to analyze the potential environmental impacts resulting from the proposed modernization of the Norton, Vermont LPOE. The EIS will consider at a minimum, one “action” alternative and one “no action” alternative. The action alternative(s) will consist of modernizing the LPOE to improve public and officer safety, and provide for the long-term, safe and efficient flow of current and projected traffic volumes. The action alternative(s) will be developed and refined based on resource impact considerations, floodplain management, site and design logistics, and information obtained through public scoping and agency consultation.

The EIS will address the potential environmental impacts of the proposed alternatives on environmental resources which may include aesthetics, air quality, geology and soils, hazardous materials, hydrology and water quality, cultural resources, biological resources including wetlands and threatened and endangered species, land use, noise, utilities, and traffic. The EIS will also address the socioeconomic effects of the project as well as impacts on Environmental Justice populations.

Scoping Process

The views and comments of the public are necessary to help determine the scope and content of the environmental analysis. The scoping process will be accomplished through a public scoping meeting, direct mail correspondence to appropriate federal, state, and local agencies, and to private organizations and citizens who have previously expressed or are known to have an interest in the project. Agencies and the public are encouraged to attend the public scoping meeting and provide written comments regarding the scope of the EIS. There will be a project presentation at 6:00 p.m. with a public comment period to follow. After the meeting GSA will post the following items at the project website, gsa.gov/norton.

• Meeting handouts

• Presentation slide deck

• Meeting transcript

• Audio/video of the meeting with closed captions

See information provided above for dates, addresses, and contact information.

Patrick Sbardelli,
Director, LPOE Project Management Office; Design and Construction Division, U.S. General Services Administration, PBS New England Region.

[FR Doc. 2024-00138 Filed 1-5-24; 8:45 am]

BILLING CODE 6820-RB-P